DEPARTMENT OF TRANSPORTATION

Coast Guard

33 CFR Part 117

[CGD01-00-135]

RIN 2115-AE47

Drawbridge Operation Regulations: Acushnet River, Annisqualm River, Fore River and Taunton River, MA.

AGENCY: Coast Guard, DOT.

ACTION: Direct final rule.

SUMMARY: The Coast Guard is changing the drawbridge operation regulations governing four bridges: the New Bedford Fairhaven (SR6) Bridge, mile 0.0, across the Acushnet River between New Bedford and Fairhaven; the Blynman (SR127) Bridge, mile 0.0, across the Annisqualm River at Gloucester; the Quincy Weymouth (SR3A) Bridge, mile 3.5, across the Fore River between Quincy and Weymouth; and the Brightman Street Bridge, mile 1.8, across the Taunton River between Somerset and Fall River, all in Massachusetts. This rule will require these bridges to open on signal if at least a two-hour notice is given from 6 p.m. on December 24 to midnight on December 25 and from 6 p.m. on December 31 to midnight on January 1.

A two-hour advance notice for bridge openings is expected to relieve the bridge owner from crewing these bridges during the holidays and still meet the needs of navigation.

DATES: This rule is effective November 10, 2000, unless a written adverse comment, or written notice of intent to submit an adverse comment, reaches the Coast Guard on or before September 10, 2000. If an adverse comment, or notice of intent to submit an adverse comment, is received, the Coast Guard will withdraw this direct final rule and publish a timely notice of withdrawal in the Federal Register.

ADDRESSES: You may mail comments and related material to the Commander (obr), First Coast Guard District, 408 Atlantic Avenue, Boston, Massachusetts 02110-3350, or deliver them to the same address between 7 a.m. and 3 p.m., Monday through Friday, except Federal holidays. The telephone number is (617) 223-8364.

The First Coast Guard District, Bridge Branch, maintains the public docket for this rulemaking. Comments, and material received from the public, as well as documents indicated in this preamble as being available in the docket, will become part of this docket and will be available for inspection or copying at the First Coast Guard District Bridge Branch Office between 7 a.m. and 3 p.m., Monday through Friday, except Federal holidays.

FOR FURTHER INFORMATION CONTACT: Mr. John W. McDonald, Project Officer, First Coast Guard District, (617) 223-8364.

SUPPLEMENTARY INFORMATION:

Request for Comments

We encourage you to participate in this rulemaking by submitting comments or related material. If you do so, please include your name and address, identify the docket number for this rulemaking (CGD01-00-135), indicate the specific section of this document to which each comment applies, and give the reason for each comment. Please submit all comments and related material in an unbound format, no larger than 8 ½ by 11 inches, suitable for copying. If you would like to know if they reached us, please enclose a stamped, self-addressed postcard or envelope. We will consider all comments and material received during the comment period. We may change this rule in view of them.

Regulatory Information

The Coast Guard is publishing a direct final rule, the procedures of which are outlined in 33 CFR 1.05-55, because no adverse comment is anticipated. If no adverse comment or written notice of intent to submit an adverse comment is received within the specified comment period, this rule will become effective as stated in the DATES section. In that case, approximately 30 days before the effective date, the Coast Guard will publish a document in the Federal Register stating that no adverse comment was received and confirming that this rule will become effective as scheduled. However, if the Coast Guard receives a written adverse comment or written notice of intent to submit an adverse comment, the Coast Guard will publish a document in the Federal Register announcing withdrawal of all or part of this direct final rule. If an adverse comment only applies to only part of this rule and it is possible to remove that part without defeating the purpose of this rule, the Coast Guard may adopt as final those parts of this rule on which no adverse comment was received. The part of this rule that was the subject of an adverse comment will be withdrawn. If the Coast Guard decides to proceed with a rulemaking following receipt of an adverse comment, the Coast Guard will publish a separate Notice of Proposed Rulemaking (NPRM) and provide a new opportunity for comment.

A comment is considered “adverse” if the comment explains why this rule would be inappropriate, including a challenge to the rule's underlying premise or approach, or would be ineffective or unacceptable without a change.

Background and Purpose

This rule amends bridge regulations governing the operation of the following bridges:

New Bedford Fairhaven (SR6) Bridge

The New Bedford Fairhaven (SR6) Bridge has a vertical clearance of 8 feet at mean high water and 12 feet at mean low water. The existing operating regulations at 33 CFR 117.585 require the bridge to open on the hour between 6 a.m. and 10 a.m. inclusive; open at quarter past the hour from 11:15 a.m. to 6:15 p.m. inclusive; open on signal at all other times. The draw shall be opened at any time for vessels whose draft exceeds 15 feet.

Blynman (SR127) Bridge

The Blynman (SR127) Bridge has a vertical clearance of 7 feet at mean high water and 16 feet at mean low water. The existing operating regulations require the bridge to open on signal at all times.

Quincy Weymouth (SR3A) Bridge

The Quincy Weymouth (SR3A) Bridge has a vertical clearance of 33 feet at mean high water and 43 feet at mean low water. The existing operating regulations at 33 CFR 117.621 require the bridge to open on signal, except that; from 6:30 a.m. to 9 a.m. and 4:30 p.m. to 6:30 p.m., Monday through Friday, except holidays, the draw need not be opened. The bridge opens at all times for self-propelled vessels greater than 10,000 gross tons.

Brightman Street Bridge

The Brightman Street Bridge has a vertical clearance of 27 feet at mean high water and 31 feet at mean low water. The existing operating regulations at 33 CFR 117.619 require the bridge to open on signal, except that; from November 1 through March 31, between 6 p.m. and 6 a.m., the bridge shall open if at least a one-hour notice is given, from 6 p.m. to midnight on December 24 and all day on December 25 and January 1, the bridge shall open if at least a two-hour advance notice is given.

The bridge owner, Massachusetts Highway Department (MHD), asked the Coast Guard to change the operating regulations to allow these bridges to open on signal if at least a two-hour notice is given from 6 p.m. on Christmas Eve to midnight on Christmas Day and from 6 p.m. on New Year's Eve to midnight on New Year's Day. There have been few requests to open these bridges on these holidays in past years.

In addition, the Coast Guard published a notice of temporary deviation with request for comments on December 1, 1999, to test the requested change. No comments were received in response to that notice.

Discussion of Rule

This direct final rule will revise existing bridge regulations or add new regulations as follows:

New Bedford Fairhaven (SR6) Bridge

Revise section 33 CFR 117.585(d) to require that from 6 p.m on December 24 to midnight on December 25 and from 6 p.m. on December 31 to midnight on January 1, the draw shall open on signal after a two-hour notice is given by calling the number posted at the bridge. The requirement that the bridge owner shall post the operating regulations will be removed because it is now listed under 33 CFR 117.55 of this chapter.

Blynman (SR127) Bridge

Add section 33 CFR 117.586 for the Annisqualm River and Blynman Canal to require the draw to open on signal; except that, from 6 p.m. on December 24 to midnight on December 25 and from 6 p.m. on December 31 to midnight on January 1, the draw shall open on signal if at least a two-hour notice is given by calling the number posted at the bridge.

Quincy Weymouth (SR3A) Bridge

Add paragraph (c) in section 33 CFR 117.621 to require that from 6 p.m. on December 24 to midnight on December 25 and from 6 p.m. on December 31 to midnight on January 1, the draw shall open on signal if at least a two-hour notice is given by calling the number posted at the bridge.

Brightman Street Bridge

Revise section 33 CFR 117.619(b) to require the draw of the Brightman Street Bridge between Somerset and Fall River to open on signal; except that, from November 1 through March 31, between 6 p.m. and 6 a.m. daily, the draw shall open on signal if at least a one-hour notice is given. From 6 p.m. on December 24 to midnight on December 25 and from 6 p.m. on December 31 to midnight on January 1, the draw shall open on signal if at least a two-hour notice is given by calling the number posted at the bridge.

Regulatory Evaluation

This rule is not a “significant regulatory action” under section 3(f) of Executive Order 12866 and does not require an assessment of potential costs and benefits under 6(a)(3) of that Order. The Office of Management and Budget has not reviewed it under that Order. It is not significant under the regulatory policies and procedures of the Department of Transportation (DOT) (44 FR 11040, Feb. 26, 1979).

We expect the economic impact of this rule to be so minimal that a full Regulatory Evaluation, under paragraph 10e of the regulatory policies and procedures of DOT, is unnecessary. This conclusion is based upon the fact that the bridges will still open on signal after a two-hour notice is given and that there have been few requests to open these bridges on the holidays.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under section 5 U.S.C. 605(b), for reasons discussed in the Regulatory Evaluation section above, that this rule would not have a significant economic impact on a substantial number of small entities. This conclusion is based upon the fact that the bridges will still open on signal after a two-hour notice is given and that there have been few requests to open these bridges on the holidays.

If you think that your business, organization, or governmental jurisdiction qualifies as a small entity and that this rule would have a significant economic impact on it, please submit a comment (see ADDRESSES) explaining why you think it qualifies and how and to what degree this rule would economically affect it.

Collection of Information

This rule would call for no new collection of information under the Paperwork Reduction Act of 1995 (44 U.S.C. 3501-3520.).

Federalism

We have analyzed this rule under E.O. 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule would not impose an unfunded mandate.

Taking of Private Property

This rule would not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environment

We considered the environmental impact of this rule and concluded that, under figure 2-1, paragraph (32)(e), of Commandant Instruction M16475.1C, this rule is categorically excluded from further environmental documentation because promulgation of drawbridge regulations have been found not to have a significant effect on the environment. A “Categorical Exclusion Determination” is available in the docket where indicated under ADDRESSES.

List of Subjects in 33 CFR Part 117

Bridges.

Regulations

For the reasons set out in the preamble, the Coast Guard amends 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. Section 117.585(d) is revised to read as follows:

§ 117.585 Acushnet River

* * * * *

(d) From 6 p.m. on December 24 to midnight on December 25 and from 6 p.m. on December 31 to midnight on January 1, the draw shall open on signal if at least a two-hour notice is given by calling the number posted at the bridge.

3. Section 117.586 is added to read as follows:

§ 117.586 Annisqualm River and Blynman Canal

The draw of the Blynman (SR127) Bridge shall open on signal; except that, from 6 p.m. on December 24 to midnight on December 25 and from 6 p.m. on December 31 to midnight on January 1, the draw shall open on signal if at least a two-hour notice is given by calling the number posted at the bridge.

4. In § 117.621 paragraph (c) is added to read as follows:

§ 117.621 Fore River

* * * * *

(c) From 6 p.m. on December 24 to midnight on December 25 and from 6 p.m. on December 31 to midnight on January 1, the draw shall open on signal if at least a two-hour notice is given by calling the number posted at the bridge.

5. Section 117.619(b) is revised to read as follows:

§ 117.619 Taunton River

* * * * *

(b) The draw of the Brightman Street Bridge between Somerset and Fall River shall open on signal; except that, from November 1 through March 31, between 6 p.m. and 6 a.m. daily, the draw shall open if at least a one-hour notice is given. From 6 p.m. on December 24 to midnight on December 25 and from 6 p.m. on December 31 to midnight on January 1, the draw shall open on signal if at least a two-hour notice is given by calling the number posted at the bridge.

* * * * *

Dated: June 5 2000.
G.N. Naccara,
Rear Admiral, U.S. Coast Guard, Commander, First Coast Guard District.

[FR Doc. 00-15216 Filed 6-19-00; 8:45 am]

BILLING CODE 4910-15-U